DEPARTMENT OF COMMERCE

International Trade Administration

Recruitment Notice for Expressions of Interest From Qualified U.S. Travel and Tourism Industry Associations

AGENCY: International Trade Administration, U.S. Department of Commerce.

ACTION: Notice.

SUMMARY: Notice is hereby given that the Department of Commerce is soliciting expressions of interest from U.S. Travel and Tourism industry associations with experience and/or core competency in self regulation to establish and implement a program to qualify inbound U.S. tour operators that meet the requirements of the China National Tourism Administration to facilitate packaged group leisure travel established by the “Memorandum of Understanding Between the Government of the People's Republic of China and the Government of the United States of America to Facilitate Outbound Tourist Group Travel from China to The United States.” The purpose of this program would be to provide quality assurance and a means for tour operators qualified under the program to be recognized by the China National Tourism Administration (CNTA) as able to do business with Chinese travel agencies approved by the CNTA to organize and market packaged group leisure travel from China to the United States.

Qualified Associations are those that are broadly representative of the U.S. travel and tourism industry, have experience in self regulation programs for the purpose of quality assurance (including the establishment of standards, systems to accept and adjudicate complaints, and procedures for membership revocation for those who do not comply), and have/or will have such programs identified as a mission of the organization.

The Memorandum of Understanding between the Government of the People's Republic of China and the Government of the United States of America to Facilitate Outbound Tourist Group Travel from China to the United States can be found at http://trade.gov/press/press_releases/2007/china-tourism-mou-english-121107.pdf.

Deadline: Expressions of interest will be accepted on an ongoing basis, and should be directed to Isabel Hill, Deputy Director for Planning and Policy, Office of Travel and Tourism Industries, U.S. Department of Commerce, Room 1003, 14th and Constitution Ave, NW., Washington, DC, 20230.

Interested Parties: Interested parties should send a letter of interest describing the interest and background of the organization as it relates to this notice. The letter should include a name, title and contact number for the individual responsible for communicating with the Department of Commerce on this matter.

Dated: February 20, 2008.
Helen N. Marano,
Director, Office of Travel and Tourism Industries.

[FR Doc. 08-850 Filed 2-21-08; 1:01 pm]

BILLING CODE 3510-DR-P